NATIONAL SCIENCE FOUNDATION

Astronomy and Astrophysics Advisory Committee; Notice of Meeting

In accordance with the Federal Advisory Committee Act (Pub. L. 92-463, as amended), the National Science Foundation (NSF) announces the following meeting:

Name and Committee Code: Astronomy and Astrophysics Advisory Committee (13883) (Hybrid).

Date and Time: January 30-January 31, 2025; 9:30 a.m.-4:30 p.m.

Place: National Science Foundation, 2415 Eisenhower Avenue, Room 2210/2220, Alexandria, VA 22314 (In-Person and Virtual).

This is a hybrid meeting. Members and the public may attend virtually via Zoom or in person.

Attendance information for the meeting will be forthcoming on the website: https://www.nsf.gov/mps/ast/aaac.jsp.

The link for registration for Zoom is: https://nsf.zoomgov.com/webinar/register/WN_ihbu7M8uTYG1GQjf0F6YHw.

Type of Meeting: Open.

Contact Person: Dr. Daniel Fabrycky, Program Director, Division of Astronomical Sciences, Suite W 9176, National Science Foundation, 2415 Eisenhower Avenue, Alexandria, VA 22314; Telephone: 703-292-8490.

Purpose of Meeting: To hear presentations of current programming by representatives from NSF, NASA, DOE and other agencies relevant to astronomy and astrophysics; to discuss current and potential areas of cooperation between the agencies; to formulate recommendations for continued and new areas of cooperation and mechanisms for achieving them.

Agenda: To provide updates on Agency activities and to discuss the Committees draft annual report due 15 March 2025.

Dated: November 29, 2024.
Crystal Robinson,
Committee Management Officer.

[FR Doc. 2024-28400 Filed 12-3-24; 8:45 am]

BILLING CODE 7555-01-P